DEPARTMENT OF ENERGY

Federal Energy Regulatory Commission

Combined Notice of Filings #2

Take notice that the Commission received the following exempt wholesale generator filings:

Docket Numbers: EG17-140-000.

Applicants: Middle Daisy, LLC.

Description: Self-Certification of EG of Middle Daisy, LLC.

Filed Date: 8/17/17.

Accession Number: 20170817-5129.

Comments Due: 5 p.m. ET 9/7/17.

Docket Numbers: EG17-141-000.

Applicants: Shoreham Solar Commons LLC.

Description: Notice of Self-Certification of Exempt Wholesale Generator Status of Shoreham Solar Commons LLC.

Filed Date: 8/18/17.

Accession Number: 20170818-5135.

Comments Due: 5 p.m. ET 9/8/17.

Docket Numbers: EG17-142-000.

Applicants: Shoreham Solar Commons Holdings LLC.

Description: Notice of Self-Certification of Exempt Wholesale Generator Status of Shoreham Solar Commons Holdings LLC.

Filed Date: 8/18/17.

Accession Number: 20170818-5137.

Comments Due: 5 p.m. ET 9/8/17.

Docket Numbers: EG17-143-000.

Applicants: Golden Hills North Wind, LLC.

Description: Notice of Self-Certification of Exempt Wholesale Generator Status of Golden Hills North Wind, LLC.

Filed Date: 8/18/17.

Accession Number: 20170818-5140.

Comments Due: 5 p.m. ET 9/8/17.

Take notice that the Commission received the following electric rate filings:

Docket Numbers: ER16-2217-000.

Applicants: Logan Generating Company, L.P.

Description: Report Filing: Refund Report to be effective N/A.

Filed Date: 8/18/17.

Accession Number: 20170818-5126.

Comments Due: 5 p.m. ET 9/8/17.

Docket Numbers: ER17-2334-000.

Applicants: New York Independent System Operator, Inc., Niagara Mohawk Power Corporation.

Description: § 205(d) Rate Filing: Joint filing of an executed LGIA among NYISO, NMPC and Arkwright Summit Wind Far to be effective 8/10/2017.

Filed Date: 8/18/17.

Accession Number: 20170818-5092.

Comments Due: 5 p.m. ET 9/8/17.

Docket Numbers: ER17-2335-000.

Applicants: PJM Interconnection, L.L.C.

Description: § 205(d) Rate Filing: Original Service Agreement No. 4762, Queue No. AC1-018 to be effective7/19/2017.

Filed Date: 8/18/17.

Accession Number: 20170818-5129.

Comments Due: 5 p.m. ET 9/8/17.

Docket Numbers: ER17-2336-000.

Applicants: Shoreham Solar Commons LLC.

Description: Baseline eTariff Filing: Application for Market-Based Rate Authorization to be effective10/18/2017.

Filed Date: 8/18/17.

Accession Number: 20170818-5136.

Comments Due: 5 p.m. ET 9/8/17.

Docket Numbers: ER17-2337-000.

Applicants: Shoreham Solar Commons Holdings LLC.

Description: Baseline eTariff Filing: Application for Market-Based Rate Authorization to be effective10/18/2017.

Filed Date: 8/18/17.

Accession Number: 20170818-5138.

Comments Due: 5 p.m. ET 9/8/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 18, 2017.
Nathaniel J. Davis, Sr.,
Deputy Secretary.

[FR Doc. 2017-17950 Filed 8-23-17; 8:45 am]

BILLING CODE 6717-01-P